DEPARTMENT OF THE TREASURY

Agency Information Collection Activities; Submission for OMB Review;

Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments should be received on or before January 29, 2020 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW, Suite 8100, Washington, DC 20220, or email at PRA@treasury.gov.

FOR FURTHER INFORMATION CONTACT: Copies of the submissions may be obtained from Spencer W. Clark by emailing PRA@treasury.gov, calling (202) 927-5331, or viewing the entire information collection request at www.reginfo.gov.

SUPPLEMENTARY INFORMATION:

Internal Revenue Service (IRS)

1. Title: Notice 2009-83—Credit for Carbon Dioxide Sequestration Under Section 45Q.

OMB Control Number: 1545-2153.

Type of Review: Extension without change of a currently approved collection.

Description: This notice sets forth interim guidance, pending the issuance of regulations, relating to the credit for carbon dioxide sequestration (CO2 sequestration credit) under § 45Q of the Internal Revenue Code.

Form: None.

Affected Public: Businesses or other for-profits.

Estimated Number of Respondents: 30.

Frequency of Response: Annually.

Estimated Total Number of Annual Responses: 30.

Estimated Time per Response: 6 hours.

Estimated Total Annual Burden Hours: 180.

2. Title: Disclosure of returns and return information.

OMB Control Number: 1545-2154.

Type of Review: Extension without change of a currently approved collection.

Description: Subject to such requirements and conditions as the Secretary may prescribe by regulation, section 6103 (c) of the Internal Revenue Code authorizes the Internal Revenue Service to disclose a taxpayer's return or return information to such person or persons as the taxpayer may designate in a request for or consent to such disclosure, or to any other person at the taxpayer's request to the extent necessary to comply with the taxpayer's request to such other person for information or assistance. This regulation (§ 301.6103(c)-1), contains the requirements that must be met before, and the conditions under which, the Internal Revenue Service may make such disclosures.

Individuals can use Form 4506T-EZ to request a tax return transcript that includes most lines of the original tax return. The tax return transcript will not show payments, penalty assessments, or adjustments made to the originally filed return. Form 4506T-EZ (SP) is the Spanish translated version of the Form 4506T-EZ. It is also used to request a tax return transcript that includes most lines of the original tax return.

Form: 4506T-EZ, 4506T-EZ (SP).

Affected Public: Individuals and households.

Estimated Number of Respondents: 5,277,136.

Frequency of Response: On occasion.

Estimated Total Number of Annual Responses: 5,277,136.

Estimated Time per Response: 47 minutes.

Estimated Total Annual Burden Hours: 4,143,302.

3. Title: Production Tax Credit for Refined Coal.

OMB Control Number: 1545-2158.

Type of Review: Extension without change of a currently approved collection.

Description: This notice sets forth interim guidance pending the issuance of regulations relating to the tax credit under § 45 of the Internal Revenue Code (Code) for refined coal. Taxpayer must file certification that its refined coal has achieved 'qualified emissions reduction' with its tax return in order to claim the production tax credit for refined coal.

Form: None.

Affected Public: Businesses or other for-profits.

Estimated Number of Respondents: 100.

Frequency of Response: On occasion.

Estimated Total Number of Annual Responses: 100.

Estimated Time per Response: 15.

Estimated Total Annual Burden Hours: 1,500.

4. Title: Extended Carryback of Losses to or from a Consolidated Group (TD 9490—Final).

OMB Control Number: 1545-2171.

Type of Review: Extension without change of a currently approved collection.

Description: This document contains final and temporary regulations under section 1502 that affect corporations filing consolidated returns. These regulations contain rules regarding the implementation of section 172(b)(1)(H) within a consolidated group. These regulations also permit certain acquiring consolidated groups to elect to waive all or a portion of the pre-acquisition carryback period pursuant to section 172(b)(1)(H) for specific losses attributable to certain acquired members. This project amends § 1.1502-21 to implement the revisions to Code section 172(b)(1)(H), which extend the carryback period for NOLs to five years, enacted by the Worker, Homeownership, and Business Assistance Act of 2009 (“WHBAA”) that the President signed on Nov. 6, 2009 (Pub. L. 111-92).

Form: None.

Affected Public: Businesses or other for-profits.

Estimated Number of Respondents: 4,000.

Frequency of Response: Annually.

Estimated Total Number of Annual Responses: 4,000.

Estimated Time per Response: 15 minutes.

Estimated Total Annual Burden Hours: 1,000.

5. Title: Form 14417—Reimbursable Agreement—Non-Federal Entities; Form 14417-A—Statistics of Income—User Fee.

OMB Control Number: 1545-2235.

Type of Review: Extension without change of a currently approved collection.

Description: Information collected with this form will be used by the IRS to enter into cost reimbursable agreements with state, local, foreign government, and commercial entities. The authority to perform services on a cost reimbursable basis is contained in Section 6103(p) of the Internal Revenue Code. Performance of services is authorized when consistent with the basic public obligations of the IRS.

Form: 14417, 14417-A.

Affected Public: Businesses or other for-profits, State, local & foreign governments.

Estimated Number of Respondents: 300.

Frequency of Response: On occasion.

Estimated Total Number of Annual Responses: 310.

Estimated Time per Response: 30 minutes for Form 14417 and 1 hour for Form 14417-A.

Estimated Total Annual Burden Hours: 160.

6. Title: Revenue Procedure 141793-11 (Rev. Proc. 2014-49).

OMB Control Number: 1545-2237.

Type of Review: Extension without change of a currently approved collection.

Description: This revenue procedure provides guidance to State housing credit agencies (Agencies) and owners of low-income buildings (Owners) regarding the suspension of certain income limitation requirements under section 42 of the Internal Revenue Code for certain low-income housing tax credit properties affected by major disaster areas declared by the President under the Robert T. Stafford Disaster Relief and Emergency Assistance Act, 42 U.S.C. 5121 et seq. (Stafford Act).

Form: None.

Affected Public: Individuals and households.

Estimated Number of Respondents: 3,500.

Frequency of Response: On occasion.

Estimated Total Number of Annual Responses: 3,500.

Estimated Time per Response: 30 minutes.

Estimated Total Annual Burden Hours: 1,750.

7. Title: Transitional Guidance Under Sections 162(f) and 6050X with Respect To Certain Fines, Penalties, and Other Amounts.

OMB Control Number: 1545-2284.

Type of Review: Revision of a currently approved collection.

Description: The collection covers the new information reporting requirements under IRC 162(f) and new 6050X, which was added by the Tax Cuts and Jobs Act (TCJA).

Generally, no deduction is allowed for any amount paid to, or at the direction of, a government or specified nongovernmental entity for the violation of any law, except in certain cases laid out in the statute. To be deductible under an exception, the Taxpayer must establish that an amount required to be paid is for restitution, remediation or to come into compliance with the law, AND the amount must be specifically identified in the settlement agreement or court order as restitution, remediation or to come into compliance with the law.

Any amount paid or incurred as reimbursement to the Government for the costs of any investigation or litigation are not deductible under one of the exceptions (under prior law, these amounts were often considered compensatory and deductible).

The 2017 Tax Cuts and Jobs Act also enacted IRC section 6050X, which requires government agencies or specified nongovernmental regulatory entities to file certain information returns. Notice 2018-23 provides information for section 6050X and transitional guidance under IRC § 162(f).

Form: 1098-F.

Affected Public: Businesses or other for-profits.

Estimated Number of Respondents: 200.

Frequency of Response: Annually, On occasion.

Estimated Total Number of Annual Responses: 47,200.

Estimated Time per Response: 7 minutes.

Estimated Total Annual Burden Hours: 5,664.

Authority: 44 U.S.C. 3501 et seq.

Dated: December 23, 2019.
Spencer W. Clark,
Treasury PRA Clearance Officer.

[FR Doc. 2019-28111 Filed 12-27-19; 8:45 am]

BILLING CODE 4830-01-P